NUCLEAR REGULATORY COMMISSION

10 CFR Parts 11 and 25

[NRC-2011-0161]

RIN 3150-AJ00

Access Authorization Fees

AGENCY: Nuclear Regulatory Commission.

ACTION: Direct final rule.

SUMMARY: The U.S. Nuclear Regulatory Commission (NRC or the Commission) is amending the NRC's access authorization fees charged to licensees for work performed under the Material Access Authorization Program (MAAP) and the Information Access Authority Program (IAAP). The amended cost is due to an increase in the review time for each application for access authorization. The NRC's formula for calculating fees remains the same and is based on current Office of Personnel Management (OPM) investigation billing rates for background investigations. The formula is designed to recover the full cost of processing a request for access authorization from an NRC licensee.

DATES: The final rule is effective June 22, 2012, unless significant adverse comments are received by June 4, 2012. A significant adverse comment is a comment where the commenter explains why the rule would be inappropriate, including challenges to the rule's underlying premise or approach, or would be ineffective or unacceptable without a change. If the rule is withdrawn, timely notice will be published in the Federal Register.

ADDRESSES: Please refer to Docket ID NRC-2011-0161 when contacting the NRC about the availability of information for this final rule. You may access information and comment submittals related to this final rulemaking, which the NRC possesses and is publicly available, by the following methods:

• Federal Rulemaking Web Site: Go to http://www.regulations.gov and search for Docket ID NRC-2011-0161.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Emily Robbins, Office of Administration, U.S. Nuclear Regulatory Commission, Washington, DC 20555-0001; telephone: 301-492-3524, email: Emily.Robbins@nrc.gov.

SUPPLEMENTARY INFORMATION:

Procedural Background

The NRC is using the direct final rule procedure because it considers this action noncontroversial and routine. The amendments make a routine adjustment to the access authorization fees and are of a minor and administrative nature. Adequate protection of public health and safety continues to be ensured. The direct final rule will become effective on June 22, 2012. However, if the NRC receives significant adverse comments on the direct final rule by June 4, 2012, then the NRC will publish a document that withdraws the direct final rule. If the direct final rule is withdrawn, the NRC will address the comments received in response to the proposed revisions in a subsequent final rule. Absent significant modifications to the proposed revisions requiring republication, the NRC will not initiate a second comment period on this action in the event the direct final rule is withdrawn.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC staff to reevaluate (or reconsider) its position or conduct additional analysis;

(b) The comment raises an issue serious enough to warrant a substantive response to clarify or complete the record; or

(c) The comment raises a relevant issue that was not previously addressed or considered by the NRC staff.

(2) The comment proposes a change or an addition to the rule, and it is apparent that the rule would be ineffective or unacceptable without incorporation of the change or addition.

(3) The comment causes the NRC staff to make a change (other than editorial) to the rule.

Background

Certain individuals employed by NRC licensees or their contractors are assigned duties which require access to special nuclear material (plutonium, uranium-233, and uranium enriched in the isotopes uranium-233 or uranium-235) or to restricted data or national security information. Individuals who require access to this material or information must obtain an access authorization from the NRC. When a licensee requests access authorization for an employee or a contractor, the NRC initiates a background investigation of the individual seeking access authorization. Based on the results of that investigation, the NRC determines whether permitting that individual to have access to special nuclear material, restricted data, or national security information would create a security risk.

The OPM conducts the required access authorization background investigations for the NRC and sets the rates charged for these investigations. The combined cost of the OPM background investigation and any related NRC processing activities (NRC processing fee) are recovered from the licensee through an access authorization fee assessed by the NRC. It is the NRC's practice to publish the fee schedule for special nuclear material access authorization in Title 10 of the Code of Federal Regulations (10 CFR) 11.15(e) and the corresponding fee schedule for restricted data and national security information access authorization in Appendix A to 10 CFR Part 25. Both schedules are based on rates charged by OPM for conducting the required background investigations (OPM investigation billing rates).

Discussion

This direct final rule amends § 11.15(e), § 25.17(f), and Appendix A to 10 CFR Part 25 by modifying the NRC processing fee charged to licensees for work performed under the MAAP and the IAAP from 31.7 percent of the OPM investigation billing rates to 55.8 percent. This direct final rule will continue to allow licensees to calculate the NRC access authorization fee for any given application by referencing to the current OPM investigation billing rates schedule for background investigation services. Reimbursable billing rates for personnel background investigations are published by OPM's Federal Investigative Services in a Federal Investigations Notice (FIN). The current OPM investigation billing rates were published in FIN 11-05 on August 29, 2011, and became effective on October 1, 2011. The FIN 11-05 is available on the OPM's Federal Investigative Services Web site at http://www.opm.gov/investigate/fins/2011.aspx. The NRC's licensees can also obtain the current OPM investigation billing rates schedule by contacting the NRC's Personnel Security Branch (PSB), Division of Facilities and Security (DFS), Office of Administration (ADM) by email to Licensee_Access_Authorization_Fee@nrc.gov.

The fee-calculation formula is designed to recover the NRC's actual in-house processing fee for each application received from the licensee. The NRC's access authorization fee for any given request is determined using the following formula: the OPM investigation billing rates on the day of NRC receipt of the application + the NRC processing fee = the NRC material access authorization fee. The NRC processing fee is determined by multiplying the OPM investigation billing rate on the day of NRC receipt of the application by 55.8 percent (i.e., OPM rate × 55.8 percent). The percentage used to determine the NRC processing fee is increasing from 31.7 percent to 55.8 percent based on a 2010 NRC audit of actual in-house costs incurred in processing licensee applications for access authorization. Specifically, the amended cost is due to an increase in the review time for each application for access authorization. It is also important to note that collection of fees to recover the NRC's costs is required by statute (42 U.S.C. 2214(b)). Specifically, the amendments are necessary to implement the Omnibus Budget Reconciliation Act of 1990, as amended, which requires the NRC to recover through fees the full cost incurred in providing a service or thing of value.

As noted previously, the OPM investigation billing rates are pulled directly from the current OPM fee schedule for investigations. The tables in new § 11.15(e)(3) and Appendix A to 10 CFR Part 25 cross-references each type of NRC access authorization request to the appropriate investigation service listed in the OPM's investigation billing rates schedule. For example, a licensee seeking a special nuclear material “NRC-U” access authorization requiring a single scope background investigation is directed by the table in new § 11.15(e)(3) to calculate the NRC processing fee based on the OPM investigation billing rates for a “Code C” Single Scope Background Investigation (SSBI). According to the current OPM investigation billing rates schedule (FIN 11-05), the OPM charges $4,005 for a “Code C” SSBI. The table instructs the licensee to calculate the NRC's application processing fee by multiplying $4,005 by 55.8 percent, which equals $2,234.79. The licensee then rounds the NRC's processing fee to the nearest dollar, or $2,235, and adds that amount to the OPM investigation billing rate of $4,005 to determine the total NRC access authorization fee: $6,240.

The following table illustrates the calculation process:

Current OPM investigation billing rate for SSBI-C | Plus NRC application processing fee: OPM Rate × NRC fee 55.8% = (rounded to nearest $) | Equals total NRC access authorization fee for NRC-U application
$4,005 | $4,005 × 55.8% = $2,234.79 (rounded to $2,235) | = $6,240

Licensees applying for restricted data or national security information access authorization follow a similar procedure. The table in Appendix A to 10 CFR Part 25 cross-references each type of ``Q'' or ``L'' access authorization to the corresponding OPM investigation type. The OPM investigation billing rate for the type of investigation referenced is determined by consulting the current OPM investigation billing rates schedule. This rate is then plugged into the formula used to calculate the correct NRC access authorization fee for the type of application submitted. Copies of the current NRC access authorization fee can be obtained by contacting the NRC's Personnel Security Branch, Division of Facilities Security, Office of Administration by email to: Licensee_Access_Authorization_Fee@nrc.gov. Any change in the NRC's access authorization fees will be applicable to each access authorization request received on or after the effective date of the OPM's most recently published investigation billing rates schedule.

Paragraph-by-Paragraph Analysis

Section 11.15 Application for Special Nuclear Material Access Authorization

To more clearly explain the access authorization process, the NRC is amending the rule language as follows: § 11.15(e)(1), and (2) are revised; § 11.15(e)(3) is redesignated as § 11.15(e)(4); and a new § 11.15(e) introductory text and (e)(3) are added. Additional changes were made for grammatical or clarification purposes. The authority citation was changed to reflect the current statutory framework for agency fee recovery.

Section 11.15(e) introductory text is added to further explain how the OPM bills the NRC for the cost of each background investigation conducted in support of an application for special nuclear material access authorization.

Section 11.15(e)(1) is revised to clearly define the formula used in calculating the NRC material access authorization fee (the OPM investigation billing rates on the day of NRC receipt of the application + the NRC processing fee = the NRC access authorization fee). The NRC processing fee is determined by multiplying the OPM investigation billing rate on the day of NRC receipt of the application by 55.8 percent (i.e., OPM rate × 55.8 percent). Significantly, as noted above, the percentage of the OPM investigation billing rates in the processing fee is being changed from 31.7 percent of the OPM investigation billing rate to 55.8 percent of that rate to reflect NRC's increased costs in processing licensee applications for access authorization.

Section 11.15(e)(2) is revised to further explain how to access the OPM billing rates schedule. Also, the telephone contact is changed to an email contact.

The current § 11.15(e)(3) is redesignated as § 11.15(e)(4). A new § 11.15(e)(3) is added to clearly explain that the NRC's MAAP is considered reimbursable work representing services provided to an organization for which the NRC is entitled to payment. The NRC is authorized to receive and retain fees from licensees for services performed. The NRC's Office of the Chief Financial Officer (OCFO) periodically reviews the fees charged for MAAP and makes recommendations on revising those charges to reflect costs incurred by the NRC in providing those services. The reviews are performed using cost analysis techniques to determine the direct and indirect costs. The new § 11.15(e)(3) also provides information on where to obtain current copies of the NRC access authorization fee via an email contact and includes a table of the NRC's MAAP fee schedules. The NRC fee schedule for NRC-R (expedited processing) is removed given that this type of access authorization is no longer being performed by OPM. Other minor changes to the table are made to reflect the types of access authorization currently being performed by OPM.

Section 25.17 Approval for Processing Applicants for Access Authorization

To more clearly explain the access authorization process, the NRC is amending the rule language as follows: § 25.17(f)(1), and (2) are revised; § 25.17(f)(3) is redesignated as § 25.17(f)(4); and a new § 25.17(f) introductory text and (f)(3) are added. Additional changes were made for grammatical or clarification purposes. The authority citation was changed to reflect the current statutory framework for agency fee recovery.

Section 25.17(f) introductory text is added to further explain how OPM bills the NRC for the cost of each background investigation conducted in support of an application for access authorization.

Section 25.17(f)(1) is revised to clearly define the formula used in calculating the NRC access authorization fee (the OPM investigation billing rates on the day of NRC receipt of the application + the NRC processing fee = the NRC access authorization fee). The NRC processing fee is determined by multiplying the OPM investigation billing rate on the day of NRC receipt of the application by 55.8 percent (i.e., OPM rate × 55.8 percent). Significantly, as noted above, the percentage of the OPM investigation billing rates in the processing fee is being changed from 31.7 percent of the OPM investigation billing rate to 55.8 percent of that rate to reflect the NRC's increased costs in processing licensee applications for access authorization.

Section 25.17(f)(2) is revised to further explain how to access the OPM billing rates schedule. Also, the telephone contact is changed to an email contact.

The current § 25.17(f)(3) is redesignated as § 25.17(f)(4). A new § 25.17(f)(3) is added to clearly explain that the NRC's IAAP is considered reimbursable work representing services provided to an organization for which the NRC is entitled to payment. The NRC is authorized to receive and retain fees from licensees for services performed. The NRC's OCFO periodically reviews the fees charged for IAAP and makes recommendations on revising those charges to reflect costs incurred by the NRC in providing those services. The reviews are performed using cost analysis techniques to determine the direct and indirect costs. The new § 25.17(f)(3) also provides information on where to obtain current copies of the NRC access authorization fee via an email contact.

Appendix A to 10 CFR Part 25—Fees for NRC Access Authorization

The revised table in Appendix A to 10 CFR Part 25 cross-references each type of NRC “Q” or “L” access authorization request to a type of investigation in the current OPM investigation billing rates schedule, and directs licensees to calculate the application fee according to the stated formula: the OPM investigation billing rates on the day of NRC receipt of the application + the NRC processing fee = the NRC access authorization fee. The NRC processing fee is determined by multiplying the OPM investigation billing rate on the day of NRC receipt of the application by 55.8 percent (i.e., OPM rate × 55.8 percent). The NRC fee schedule for Initial “L” access authorization (expedited processing) is removed given that this type of access authorization is no longer being performed by OPM. Other minor changes to the table are made to reflect the types of access authorization currently being performed by OPM and for grammatical or clarification purposes.

Voluntary Consensus Standards

The National Technology Transfer and Advancement Act of 1995, Public Law 104-113, requires Federal agencies to use technical standards developed or adopted by voluntary consensus standards bodies unless the use of such a standard is inconsistent with applicable law or is otherwise impractical. This direct final rule amends the formula for calculating the NRC's access authorization fee charged to licensees for work performed under MAAP and IAAP from 31.7 percent of the OPM investigation billing rate for an investigation of a given type to 55.8 percent.

This action is administrative in nature and does not involve the establishment or application of a technical standard containing generally applicable requirements.

Environmental Impact: Categorical Exclusion

The NRC has determined that this direct final rule is the type of action described in categorical exclusions § 51.22(c)(1) and (2). Therefore, neither an environmental impact statement nor an environmental assessment has been prepared for this direct final rule.

Paperwork Reduction Act Statement

This direct final rule does not contain new or amended information collection requirements subject to the Paperwork Reduction Act of 1995 (44 U.S.C. 3501 et seq.). Existing requirements were approved by the Office of Management and Budget (OMB), Approval Numbers 3150-0046 and 3150-0062.

Public Protection Notification

The NRC may not conduct or sponsor, and a person is not required to respond to, a request for information or an information collection requirement unless the requesting document displays a currently valid OMB control number.

Regulatory Analysis

A regulatory analysis has not been prepared for this direct final rule. This direct final rule ensures that the NRC recovers the full cost of application processing from licensees submitting access authorization requests, as is required by statute (42 U.S.C. 2214(b)). The formula method for calculating these fees continues to provide an efficient and effective mechanism for updating the NRC access authorization fees in response to changes in the underlying OPM investigation billing rates schedule for required personnel background investigations. These amendments are administrative in nature and will neither impose new safety requirements nor relax existing ones and therefore do not call for the sort of safety/cost analysis described in the NRC's regulatory analysis guidelines in NUREG/BR-0058, Revision 4, “Regulatory Analysis Guidelines of the USNRC,” September 2004 (ADAMS Accession No. ML042820192).

Regulatory Flexibility Act Certification

Under the Regulatory Flexibility Act (5 U.S.C. 605(b)), the Commission certifies that this direct final rule amending 10 CFR Parts 11 and 25 does not have a significant economic impact on a substantial number of small entities. This direct final rule applies to those licensees who use, process, store, transport, or deliver to a carrier for transport, formula quantities of special nuclear material (as defined in 10 CFR Part 73) or generate, receive, safeguard, and store National Security Information or Restricted Data (as defined in 10 CFR Part 95). Two licensees, both fuel cycle facilities, are currently required to comply with 10 CFR Part 11. Seventy-eight licensees and other organizations, mostly power reactors and fuel cycle facilities, are currently required to comply with 10 CFR Part 25. None of these licensees are “small entities” as defined in the Regulatory Flexibility Act or the size standards established by the NRC (10 CFR 2.810). This direct final rule also applies to contractors of those licensees required to comply with this direct final rule who use, process, store, transport, or deliver to a carrier for transport, formula quantities of special nuclear material (as defined in 10 CFR Part 73) or generate, receive, safeguard, and store National Security Information or Restricted Data (as defined in 10 CFR Part 95). Some of these contractors may be “small entities” as defined in the Regulatory Flexibility Act or the NRC's size standards. However, some of these contractors are reimbursed through the contract for the cost of securing access authorization. There are not a substantial number of unreimbursed “small entity” contractors who apply for access authorization, nor is the NRC aware of any significant impact on these unreimbursed “small entity” contractors.

Backfit Analysis

The NRC has determined that the backfit rule does not apply to this direct final rule and that a backfit analysis is not required. Collection of fees to recover the NRC's costs is required by statute (42 U.S.C. 2214(b)). Therefore, changes to rules designating the amount to be collected are not subject to the backfitting provisions or issue finality provisions in 10 CFR Chapter I.

Congressional Review Act

In accordance with the Congressional Review Act, the NRC has determined that this action is not a major rule and has verified this determination with the Office of Information and Regulatory Affairs of OMB.

List of Subjects

10 CFR Part 11

Hazardous materials—transportation, Investigations, Nuclear materials, Reporting and recordkeeping requirements, Security measures, Special nuclear material.

10 CFR Part 25

Classified information, Criminal penalties, Investigations, Reporting and recordkeeping requirements, Security measures.

For the reasons set forth in the preamble and under the authority of the Atomic Energy Act of 1954, as amended; the Energy Reorganization Act of 1974, as amended; and 5 U.S.C. 552 and 553, the NRC is adopting the following amendments to 10 CFR Parts 11 and 25.

PART 11—CRITERIA AND PROCEDURES FOR DETERMINING ELIGIBILITY FOR ACCESS TO OR CONTROL OVER SPECIAL NUCLEAR MATERIAL

1. The authority citation for part 11 is revised to read as follows:

Authority: Atomic Energy Act sec. 161 (42 U.S.C. 2201); Energy Reorganization Act sec. 201 (42 U.S.C. 5841); Government Paperwork Elimination Act sec. 1704 (44 U.S.C. 3504 note).

Section 11.15(e) also issued under Independent Offices Appropriations Act sec. 501, (31 U.S.C. 9701); Omnibus Reconciliation Act of 1990 sec. 6101 (42 U.S.C. 2214).

Federal Register Citation: October 10, 2003; 68 FR 58792, 58800.

2. In § 11.15:

i. Add paragraph (e) introductory text;

ii. Revise paragraphs (e)(1) and (e)(2);

iii. Redesignate paragraph (e)(3) as paragraph (e)(4); and

iv. Add a new paragraph (e)(3).

The revisions and addition read as follows:

§ 11.15 Application for special nuclear material access authorization.

* * * * *

(e) The Office of Personnel Management (OPM) bills the NRC for the cost of each background investigation conducted in support of an application for special nuclear material access authorization (application). The combined cost of the OPM investigation and the NRC's application processing overhead (NRC processing fee) are recovered through a material access authorization fee imposed on applicants for special nuclear material access authorization.

(1) Each application for a special nuclear material access authorization, renewal, or change in level must be accompanied by a remittance, payable to the U.S. Nuclear Regulatory Commission, which is equal to the NRC material access authorization fee. This fee must be determined using the following formula: the OPM investigation billing rates on the day of NRC receipt of the application + the NRC processing fee = the NRC material access authorization fee. The NRC processing fee is determined by multiplying the OPM investigation billing rate on the day of NRC receipt of the application by 55.8 percent (i.e., OPM rate × 55.8 percent).

(2) Updated OPM investigation billing rates are published periodically in a Federal Investigations Notice (FIN) issued by the OPM's Federal Investigative Services. Copies of the current OPM investigation billing rates schedule can be obtained by contacting the NRC's Personnel Security Branch, Division of Facilities Security, Office of Administration by email to: Licensee_Access_Authorization_Fee@nrc.gov.

(3) The NRC's Material Access Authorization Program (MAAP) is considered reimbursable work representing services provided to an organization for which the NRC is entitled payment. The NRC is authorized to receive and retain fees from licensees for services performed. The NRC's Office of the Chief Financial Officer periodically reviews the fees charged for MAAP and makes recommendations on revising those charges to reflect costs incurred by the NRC in providing those services. The reviews are performed using cost analysis techniques to determine the direct and indirect costs. Based on this review the MAAP fees are adjusted to reflect the current cost for the program. Copies of the current NRC material access authorization fee may be obtained by contacting the NRC's Personnel Security Branch, Division of Facilities Security, Office of Administration by email to: Licensee_Access_Authorization_Fee@nrc.gov. Any change in the NRC's access authorization fees will be applicable to each access authorization request received on or after the effective date of the OPM's most recently published investigation billing rates schedule. Applicants shall calculate the access authorization fee according to the stated formula (i.e., OPM rate × 55.8 percent) and with reference to the following table:

The NRC application fee for an access authorization of type . . . | Is the sum of the current OPM investigation billing rate charged for an investigation of type . . . | Plus the NRC's processing fee (rounded to the nearest dollar), which is equal to the OPM investigation billing rate for the type of investigation referenced multiplied by . . .
I. NRC—R ¹ | NACLC—National Agency Check with Law and Credit (Standard Service, Code C) | 55.8%
ii. NRC—R Based on Certification of Comparable Investigation ² | No fee assessed for most applications |
iii. NRC—R renewal ¹ | NACLC—National Agency Check with Law and Credit (Standard Service, Code C) | 55.8%
iv. NRC—U requiring single scope investigation | SSBI—Single Scope Background Investigation (Standard Service, Code C) | 55.8%
v. NRC—U requiring single scope investigation (expedited processing) | SSBI—Single Scope Background Investigation (Priority Handling, Code A) | 55.8%
vi. NRC—U based on certification of comparable investigation ² | No fee assessed for most applications |
vii. NRC—U renewal ² | SSBI-PR—Periodic Reinvestigation for SSBI (Standard Service, Code C) | 55.8%
¹ If the NRC, having reviewed the available data, deems it necessary to perform a single scope investigation, the appropriate NRC-U fee will be assessed before the conduct of the investigation.
² If the NRC determines, based on its review of available data, that a single scope investigation is necessary, the appropriate NRC-U fee will be assessed before the conduct of the investigation.

* * * * *

PART 25—ACCESS AUTHORIZATION

3. The authority citation for part 25 is revised to read as follows:

Authority: Atomic Energy Act secs. 145, 161, 223, 234 (42 U.S.C. 2165, 2201, 2273, 2282); Energy Reorganization Act sec. 201 (42 U.S.C. 5841); Government Paperwork Elimination Act sec. 1704 (44 U.S.C. 3504 note); E.O. 10865, as amended, 3 CFR 1959-1963 Comp., p. 398 (50 U.S.C. 401, note); E.O. 12829, 3 CFR, 1993 Comp., p. 570; E.O. 13526, 3 CFR 2010 Comp., pp. 298-327; E.O. 12968, 3 CFR, 1995 Comp, p. 396;

Section 25.17(f) and Appendix A also issued under 31 U.S.C. 9701; Omnibus Reconciliation Act of 1990 sec. 6101 (42 U.S.C. 2214).

Federal Register Citation: November 30, 2010; 75 FR 73935, 73941.

4. In § 25.17:

i. Add paragraph (f) introductory text;

ii. Revise paragraphs (f)(1) and (f)(2);

iii. Redesignate paragraph (f)(3) as paragraph (f)(4); and

iv. Add a new paragraph (f)(3).

The revisions read as follows:

§ 25.17 Approval for processing applicants for access authorization.

* * * * *

(f) The Office of Personnel Management (OPM) bills the NRC for the cost of each background investigation conducted in support of an application for access authorization (application). The combined cost of the OPM investigation and the NRC's application processing overhead (NRC processing fee) are recovered through an access authorization fee imposed on applicants for access authorization.

(1) Each application for access authorization, renewal, or change in level must be accompanied by a remittance, payable to the U.S. Nuclear Regulatory Commission, which is equal to the NRC access authorization fee. This fee must be determined using the following formula: the OPM investigation billing rates on the day of NRC receipt of the application + the NRC processing fee = the NRC access authorization fee. The NRC processing fee is determined by multiplying the OPM investigation billing rate on the day of NRC receipt of the application by 55.8 percent (i.e., OPM rate × 55.8 percent).

(2) Updated OPM investigation billing rates are published periodically in a Federal Investigations Notice (FIN) issued by the OPM's Federal Investigative Services. Copies of the current OPM investigation billing rates schedule can be obtained by contacting the NRC's Personnel Security Branch, Division of Facilities Security, Office of Administration by email to Licensee_Access_Authorization_Fee@nrc.gov.

(3) The NRC's Information Access Authority Program (IAAP) is considered reimbursable work representing services provided to an organization for which the NRC is entitled payment. The NRC is authorized to receive and retain fees from licensees for services performed. The NRC's Office of the Chief Financial Officer periodically reviews the fees charged for IAAP and makes recommendations on revising those charges to reflect costs incurred by the NRC in providing those services. The reviews are performed using cost analysis techniques to determine the direct and indirect costs. Based on this review the IAAP fees are adjusted to reflect the current cost for the program. Copies of the current NRC access authorization fee may be obtained by contacting the NRC's Personnel Security Branch, Division of Facilities Security, Office of Administration by email to: Licensee_Access_Authorization_Fee@nrc.gov. Any change in the NRC's access authorization fee will be applicable to each access authorization request received on or after the effective date of the OPM's most recently published investigation billing rates schedule.

* * * * *

5. Appendix A to part 25 is revised to read as follows:

Appendix A to Part 25—Fees for NRC Access Authorization

The NRC application fee for an access authorization of type . . . | Is the sum of the current OPM investigation billing rate charged for an investigation of type . . . | Plus the NRC's processing fee (rounded to the nearest dollar), which is equal to the OPM investigation billing rate for the type of investigation referenced multiplied by . . .
Initial “L” access authorization ¹ | ANACI—Access National Agency Check with Inquiries (Standard Service, Code C) | 55.8%
Reinstatement of “L” access authorization ² | No fee assessed for most applications |
Renewal of “L” access authorization ¹ | NACLC—Access National Agency Check with Law and Credit (Standard Service, Code C) | 55.8%
Initial “Q” access authorization | SSBI—Single Scope Background Investigation (Standard Service, Code C) | 55.8%
Initial “Q” access authorization (expedited processing) | SSBI—Single Scope Background Investigation (Priority Handling, Code A) | 55.8%
Reinstatement of “Q” access authorization ² | No fee assessed for most applications |
Renewal of “Q” access authorization ¹ | SSBI-PR—Periodic Reinvestigation for SSBI (Standard Service, Code C) | 55.8%
¹ If the NRC determines, based on its review of available data, that a single scope investigation is necessary, the appropriate fee for an Initial “Q” access authorization will be assessed before the conduct of investigation.
² Full fee will only be charged if an investigation is required.

Dated at Rockville, Maryland, this 19th day of April 2012.
For the Nuclear Regulatory Commission.
R.W. Borchardt,
Executive Director for Operations.

[FR Doc. 2012-10711 Filed 5-2-12; 8:45 am]

BILLING CODE 7590-01-P